LIBRARY OF CONGRESS

Copyright Office

37 CFR Part 201

[Docket No. RM 2005-4]

Statements of Account

AGENCY: Copyright Office, Library of Congress.

ACTION: Final rule.

SUMMARY: The Copyright Office is amending its rules to require cable operators, satellite carriers, and manufacturers and importers of digital audio recording technology and media to file with the Licensing Division of the Copyright Office a copy of their statement of account together with the original statement of account.

DATE: This rule shall take effect on July 1, 2005.

FOR FURTHER INFORMATION CONTACT: David O. Carson, General Counsel, or Tanya M. Sandros, Associate General Counsel, Copyright GC/R&I, P.O. Box 70400, Southwest Station, Washington, DC 20024-0400. Telephone: (202) 707-8380. Telefax: (202) 707-8366.

SUPPLEMENTARY INFORMATION: The Copyright Act, title 17 of the United States Code, requires cable operators and satellite carriers making secondary transmissions of broadcast signals under a statutory license to file with the Copyright Office statements of account every six months together with the royalty fees required for use of the licenses. 17 U.S.C. 111(d)(2) and 119(b)(1). Similarly, entities that manufacture and distribute and/or import and distribute digital audio recording devices or digital audio recording media in the United States must file with the Licensing Division quarterly and annual statements of account. 17 U.S.C. 1003.

Currently, a licensee operating under any of these three statutory licenses need file only the original statement of account with the Copyright Office at the appropriate time. In the case of cable filings, this form is then copied by the staff in the Licensing Division before examination, a process which may take four to six months to complete. In the meantime, statements of account are not available for routine public viewing. Such a process is inefficient and inhibits the timely processing of the statements. For this reason, the copyright owners who are the beneficiaries of the royalty fees paid to the Copyright Office have requested that the Office amend its rules to require the licensees to file both an original statement of account and a copy of the statement at the time of payment of the royalty fees.

Their suggestion offers a practical and inexpensive solution to the problems noted above. Filing an original and one copy of the statement of account will have a two-fold benefit. The submission of a second copy will eliminate one time-consuming step in the processing of the statements, thereby increasing the efficiency associated with handling the statements at the initial stage. Certainly, it is far easier and less expensive for the licensee to make a single copy of its statement of account than to have the staff of the Licensing Division assume this burden on behalf of the thousands of licensees who file quarterly, semi-annual, and annual statements of account. Moreover, the ready availability of a copy of the cable and satellite statements of account will expedite the creation of the public file for review by copyright owners and other interested parties.

For these reasons, the Copyright Office is amending its rules to require each licensee to file a copy of its statement of account with the Licensing Division of the Copyright Office along with the original statement of account.

The Office is also revising the section heading for § 201.11 by removing the phrase “for private home viewing” to reflect the fact that the section 119 statutory license is no longer limited to private home viewing. Under the Satellite Home Viewer Extension and Reauthorization Act (“SHVERA”), Public Law 108-447, which was signed into law on December 8, 2004, satellite carriers can now provide secondary retransmissions to private homes and to commercial establishments.

This final rule is being published without opportunity for notice and comment because it is a rule of agency practice and procedure. Moreover, the Office finds that there is good cause to conclude that providing the opportunity for notice and comment would be impracticable, unnecessary and contrary to the public interest because this rule simply requires a licensee to make and submit a single copy of its statements of account, a trivial burden compared to the administrative burden to the Office of making copies of all statements of account. See 5 U.S.C. 553(b)(A) and (B).

Regulatory Flexibility Act Statement

Although the Copyright Office, as a department of the Library of Congress and part of the Legislative Branch, is not an “agency” subject to the Regulatory Flexibility Act, 5 U.S.C. 601-612, the Register of Copyrights has considered the effect of the proposed amendment on small businesses. The Register has determined that the amendments would not have a significant economic impact on a substantial number of small business entities that would require a provision of special relief for them. The amendments are designed to minimize any significant economic impact on small business entities.

List of Subjects in 37 CFR 201

Copyright.

Final Regulations

In consideration of the foregoing, the Copyright Office is amending part 201 of 37 CFR as follows:

PART 201—GENERAL PROVISIONS

1. The authority citation for part 201 continues to read as follows:

Authority: 17 U.S.C. 702.

2. Section 201.11 is amended as follows:

a. by revising the section heading,

b. by redesignating paragraphs (g) and (h) as paragraphs (h) and (i), respectively, and

c. by adding a new paragraph (g).

The revisions and additions to § 201.11 reads as follows:

§ 201.11 Satellite carrier statements of account covering statutory licenses for secondary transmissions.

* * * * *

(g) Copies of statements of account. A licensee shall file an original and one copy of the statement of account with the Licensing Division of the Copyright Office.

* * * * *

3. Section 201.17 is amended as follows:

a. by redesignating paragraphs (j) and (k) as paragraphs (k) and (l), respectively, and

b. by adding a new paragraph (j).

The revisions and additions to § 201.17 reads as follows:

§ 201.17 Statements of Account covering compulsory licenses for secondary transmissions by cable systems.

* * * * *

(j) Copies of statements of account. A licensee shall file an original and one copy of the statement of account with the Licensing Division of the Copyright Office.

* * * * *

4. Section 201.28 is amended as follows:

a. by redesignating paragraphs (g) through (k) as paragraphs (h) through (l), respectively, and

b. by adding a new paragraph (g).

The revisions and additions to § 201.28 reads as follows:

§ 201.28 Statements of Account for digital audio recording devices and media.

* * * * *

(g) Copies of statements of account. A licensee shall file an original and one copy of the statement of account with the Licensing Division of the Copyright Office.

* * * * *

Dated: May 18, 2005
Marybeth Peters,
Register of Copyrights.
Approved by:
James H. Billington,
The Librarian of Congress.

[FR Doc. 05-10552 Filed 5-25-05; 8:45 am]

BILLING CODE 1410-30-S